DEPARTMENT OF ENERGY

Federal Energy Regulatory Commission

[Project No. 14695-000; Project No. 14705-000]

Lock+™ Hydro Friends Fund X, LLC; Energy Resources USA Inc.; Notice of Competing Preliminary Permit Applications Accepted for Filing and Soliciting Comments, Motions to Intervene, and Competing Applications

On July 20, 2015, and August 26, 2015, Lock+™ Hydro Friends Fund X, LLC and Energy Resources USA Inc. respectively, filed preliminary permit applications pursuant to section 4(f) of the Federal Power Act proposing to study the feasibility of a hydropower project, to be located at the existing Mississippi River Lock and Dam No. 24 on the Mississippi River, near the city of Clarksville in Pike County, Missouri and Calhoun County, Illinois. Mississippi River Lock and Dam No. 24 is owned by the United States government and operated by the United States Army Corps of Engineers. The sole purpose of a preliminary permit, if issued, is to grant the permit holder priority to file a license application during the permit term. A preliminary permit does not authorize the permit holder to perform any land-disturbing activities or otherwise enter upon lands or waters owned by others without the owner's express permission.

Lock+™ Hydro Friends Fund X, LLC's proposed project would consist of: (1) three new 450-foot-wide by 25-foot-deep modular hydropower systems, each containing ten new 1-megawatt (MW) turbine-generator units, having a total combined generating capacity of 30 megawatts; (2) a new 200-foot-long by 450-foot-wide tailrace; (3) a new 3-mile-long, 69-kilovolt transmission line; (4) a new 25-foot by 50-foot switchyard; and (5) appurtenant facilities. The project would have an estimated annual generation of 170,000 megawatt-hours.

Applicant Contact: Mr. Wayne Krouse, P.O. Box 43796, Birmingham, AL 35243; (877) 556-6566, extension 709.

Energy Resources USA Inc.'s proposed project would consist of: (1) a new 770-foot-long by 300-foot-wide intake area; (2) a new 90-foot by 220-foot reinforced concrete powerhouse; (3) four 3-MW turbine-generators, having a total combined generating capacity of 12 MW; (4) a new 1,000-foot-long by 220-foot-wide tailrace area; (5) a new 60-foot-long by 50-foot-wide substation; (6) a new 50-foot-wide by 60-foot-long substation; (7) a new 5.49-mile-long, 115-kilovolt transmission line; and (8) appurtenant facilities. The project would have an estimated annual generation of 102.5 gigawatt-hours.

Applicant Contact: Mr. Ander Gonzalez, 2655 Le June Road, Suite 804, Coral Gables, FL 33134; +34 93 252 3840.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14695-000 or P-14705-000.

More information about this project, including a copy of either application can be viewed or printed on the “eLibrary” link of Commission's Web site at http://www.ferc.gov/docs-filing/elibrary.asp. Enter the docket number (P-14695 or P-14705) in the docket number field to access the document. For assistance, contact FERC Online Support.

Dated: October 7, 2015.
Kimberly D. Bose,
Secretary.

[FR Doc. 2015-26071 Filed 10-13-15; 8:45 am]

BILLING CODE 6717-01-P